DEPARTMENT OF TRANSPORTATION

Federal Aviation Administration

14 CFR Part 39

[Docket No. FAA-2004-19990; Directorate Identifier 2004-NM-199-AD]

RIN 2120-AA64

Airworthiness Directives; Boeing Model 767-200, -300, and -300F Series Airplanes

AGENCY: Federal Aviation Administration (FAA), DOT.

ACTION: Notice of proposed rulemaking (NPRM).

SUMMARY: The FAA proposes to adopt a new airworthiness directive (AD) for certain Boeing Model 767-200, -300, and -300F series airplanes. This proposed AD would require installing a new, improved foam seal around certain ducts in the forward cargo compartment. This proposed AD is prompted by the detection of incorrectly installed smoke barrier seals around the electrical/electronic equipment air supply and exhaust ducts. We are proposing this AD to prevent fire extinguishing agent from leaking out of the seals around the ducts in the forward cargo compartment in the event of an in-flight fire, which could result in failure to extinguish the fire and consequent smoke or fire extinguishing agent entering a compartment occupied by passengers or crew.

DATES: We must receive comments on this proposed AD by February 22, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, P.O. Box 3707, Seattle, Washington 98124-2207.

You can examine the contents of this AD docket on the Internet at http://dms.dot.gov, or in person at the Docket Management Facility, U.S. Department of Transportation, 400 Seventh Street, SW., room PL-401, on the plaza level of the Nassif Building, Washington, DC. This docket number is FAA-2004-19990; the directorate identifier for this docket is 2004-NM-199-AD.

FOR FURTHER INFORMATION CONTACT: Technical information: Barbara Mudrovich, Aerospace Engineer, Cabin Safety and Environmental Systems Branch, ANM-150S, FAA, Seattle Aircraft Certification Office, 1601 Lind Avenue, SW., Renton,Washington 98055-4056; telephone (425) 917-6477; fax (425) 917-6590.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19990; Directorate Identifier 2004-NM-199-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

During production of certain Boeing Model 767-200, -300, and -300F series airplanes, incorrectly installed smoke barrier seals were found in the forward cargo compartment. The seals were located around the air supply and exhaust ducts of the electronic equipment bay. If these seals are not installed correctly, smoke and fire extinguishing agent could leak out of the ducts in the event of a fire, entering a compartment occupied by passengers or crew.

Relevant Service Information

We have reviewed Boeing Alert Service Bulletin 767-26A0119, Revision 1, dated July 15, 2004. The service bulletin describes procedures for installing a new, improved foam seal around certain ducts in the forward cargo compartment, as follows:

• For Group 1 and 2 airplanes: Installing a new, improved foam seal around the four cooling air supply and exhaust ducts in the electrical/electronic equipment bay.

• For Group 2 airplanes: Installing a new, improved foam seal around the avionics cooling and refrigeration unit (ACRU) duct.

Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously.

Costs of Compliance

There are about 468 airplanes of the affected design in the worldwide fleet. This proposed AD would affect about 342 airplanes of U.S. registry.

For Group 1 and 2 airplanes: The proposed foam seal installation around the cooling air supply and exhaust ducts would take about 2 work hours per airplane, at an average labor rate of $65 per work hour. The cost of parts would be minimal. Based on these figures, the estimated cost of the proposed installation is $130 per airplane.

For Group 2 airplanes: The proposed foam seal installation around the ACRU duct would take about 2 work hours per airplane, at an average labor rate of $65 per work hour. The cost of parts would be minimal. Based on these figures, the estimated cost of the proposed installation is $130 per airplane.

Authority for This Rulemaking

The FAA's authority to issue rules regarding aviation safety is found in Title 49 of the United States Code. Subtitle I, Section 106, describes the authority of the FAA Administrator. Subtitle VII, Aviation Programs, describes in more detail the scope of the agency's authority.

This rulemaking is promulgated under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this proposed AD will not have federalism implications under Executive Order 13132. This proposed AD will not have a substantial direct effect on the States, on the relationship between the national government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Boeing: Docket No. FAA-2004-19990; Directorate Identifier 2004-NM-199-AD.

Comments Due Date

(a) The Federal Aviation Administration (FAA) must receive comments on this AD action by February 22, 2005.

Affected ADs

(b) None.

Applicability

(c) This AD applies to Boeing Model 767-200, -300, and -300F series airplanes, certificated in any category; as listed in Boeing Alert Service Bulletin 767-26A0119, Revision 1, dated July 15, 2004.

Unsafe Condition

(d) This AD was prompted by the detection of incorrectly installed smoke barrier seals around the electrical/electronic equipment air supply and exhaust ducts. We are issuing this AD to prevent fire extinguishing agent from leaking out of the seals around the ducts in the forward cargo compartment in the event of an in-flight fire, which could result in failure to extinguish the fire and consequent smoke or fire extinguishing agent entering a compartment occupied by passengers or crew.

Compliance

(e) You are responsible for having the actions required by this AD performed within the compliance times specified, unless the actions have already been done.

Seal Installation

(f) Within 24 months or 8,000 flight hours after the effective date of this AD, whichever is first: Do the applicable actions required by paragraphs (f)(1) and (f)(2) of this AD by doing all the actions specified in the Accomplishment Instructions of Boeing Alert Service Bulletin 767-26A0119, Revision 1, dated July 15, 2004.

(1) For Group 1 and 2 airplanes: Install a foam seal around the four cooling air supply and exhaust ducts in the electrical/electronic equipment bay in the forward cargo compartment.

(2) For Group 2 airplanes: Install a foam seal around the avionics cooling and refrigeration unit duct in the forward cargo compartment.

Credit for Actions Accomplished Previously

(g) Accomplishing the applicable actions before the effective date of this AD in accordance with Boeing Alert Service Bulletin 767-26A0119, dated April 19, 2001; is considered acceptable for compliance with the corresponding actions in paragraph (f)(1) of this AD.

Alternative Methods of Compliance (AMOCs)

(h) The Manager, Seattle Aircraft Certification Office, FAA, has the authority to approve AMOCs for this AD, if requested in accordance with the procedures found in 14 CFR 39.19.

Issued in Renton, Washington, on December 27, 2004.
Kevin M. Mullin,
Acting Manager, Transport Airplane Directorate, Aircraft Certification Service.

[FR Doc. 05-166 Filed 1-4-05; 8:45 am]

BILLING CODE 4910-13-P